DEPARTMENT OF COMMERCE

National Oceanic and Atmospheric Administration

50 CFR Part 660

[Docket No. 210505-0101] RTID 0648-XB196

Fisheries Off West Coast States; Modification of the West Coast Commercial Salmon Fisheries; Inseason Action #18

AGENCY: National Marine Fisheries Service (NMFS), National Oceanic and Atmospheric Administration (NOAA), Commerce.

ACTION: Inseason modification of 2021 management measures.

SUMMARY: NMFS announces an inseason action in the 2021 ocean salmon fisheries. This inseason action modifies the commercial salmon fisheries in the area south of Cape Falcon in the Oregon Klamath Management Zone (KMZ) from Humbug Mountain to the Oregon/California border.

DATES: This inseason action became applicable on June 16, 2021, and remains in effect until superseded or modified.

FOR FURTHER INFORMATION CONTACT: Shannon Penna at 562-676-2148, Email: Shannon.penna@noaa.gov.

SUPPLEMENTARY INFORMATION:

Background

In the 2021 annual management measures for ocean salmon fisheries (86 FR 26425, May 14, 2021), NMFS announced management measures for the commercial and recreational fisheries in the area from the U.S./Canada border to the U.S./Mexico border, effective from 0001 hours Pacific Daylight Time (PDT), May 16, 2021, until the effective date of the 2022 management measures, as published in the Federal Register. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Chairman of the Pacific Fishery Management Council (Council) and the appropriate State Directors (50 CFR 660.409(b)—Flexible inseason management provisions).

Management of the salmon fisheries is generally divided into two geographic areas: North of Cape Falcon (NOF) (U.S./Canada border to Cape Falcon, OR) and South of Cape Falcon (SOF) (Cape Falcon, OR, to the U.S./Mexico border). The action described in this document affected the SOF commercial salmon fishery as set out under the heading Inseason Action.

Reason and Authorization for Inseason Action #18

The fishery affected by the inseason action described below was authorized in the final rule for 2021 annual management measures for ocean salmon fisheries (86 FR 26425, May 14, 2021).

The management subarea from Humbug Mountain to the Oregon/California border has two quota managed seasons for the commercial salmon fishery, June (300 Chinook salmon) and July (200 Chinook salmon). The first quota season opened on June 1, 2021, with a weekly landing limit of 20 Chinook salmon per vessel per week (Thursday-Wednesday). During the first 15 days of the season, the reported landings reached 271 Chinook salmon (90 percent of the quota), leaving 29 Chinook salmon remaining on the quota with one day remaining in the landing week. Taking into account the number of vessels participating, the fishery had the potential to exceed the quota by the end of the day (Wednesday, June 16, 2021). Oregon Department of Fisheries and Wildlife (ODFW) recommended immediate closure of the fishery to prevent exceeding the quota.

The NMFS West Coast Regional Administrator (RA) considered the landings of Chinook salmon in the SOF commercial salmon fishery, fishery effort occurring to date as well as anticipated under the proposal, and the Chinook salmon quota remaining and determined that this inseason action was necessary to meet management and conservation objectives. Inseason modification of fishing seasons is authorized by 50 CFR 660.409(b)(1)(i).

Consultation on this inseason action occurred on June 16, 2021. Representatives from NMFS, ODFW, California Department of Fish and Wildlife, and Council staff participated in the consultation.

Inseason Action

Inseason Action #18

Description of the action: In the commercial salmon fishery south of Cape Falcon in the Oregon KMZ from Humbug Mountain to the Oregon/California border, the season open from June 1 to June 30, or the earlier of 300 chinook salmon quota, is closed.

Effective dates: Inseason action #18 took effect at 11:59 p.m., Wednesday, June 16, 2021, and remains in effect until superseded. This inseason action was announced on NMFS' telephone hotline and U.S. Coast Guard radio broadcast on June 16, 2021 (50 CFR 660.411(a)(2)).

All other restrictions and regulations remain in effect as announced for the 2021 ocean salmon fisheries (86 FR 26425, May 14, 2021), as modified by previous inseason action (86 FR 34161, June 29, 2021).

The RA determined that this inseason action was warranted based on the best available information on Pacific salmon abundance forecasts and anticipated fishery effort. The states manage the fisheries in state waters adjacent to the areas of the U.S. exclusive economic zone consistent with these Federal actions. As provided by the inseason notice procedures at 50 CFR 660.411, actual notice of the described regulatory action was given, prior to the time the action was effective, by telephone hotline numbers 206-526-6667 and 800-662-9825, and by U.S. Coast Guard Notice to Mariners broadcasts on Channel 16 VHF-FM and 2182 kHz.

Classification

NMFS issues these actions pursuant to section 305(d) of the MSA. These actions are authorized by 50 CFR 660.409, which was issued pursuant to section 304(b), and is exempt from review under Executive Order 12866.

Pursuant to 5 U.S.C. 553(b)(3)(B), there is good cause to waive prior notice and an opportunity for public comment on these actions, as notice and comment would be impracticable and contrary to the public interest. Prior notice and opportunity for public comment on these actions was impracticable because NMFS had insufficient time to provide for prior notice and the opportunity for public comment between the time Chinook salmon abundance, catch, and effort information was developed and fisheries impacts were calculated, and the time the fishery modifications had to be implemented in order to ensure that fisheries are managed based on the best available scientific information. As previously noted, actual notice of the regulatory action was provided to fishers through telephone hotline and radio notification. This action complies with the requirements of the annual management measures for ocean salmon fisheries (86 FR 26425, May 14, 2021), the fishery management plan (FMP), and regulations implementing the FMP under 50 CFR 660.409 and 660.411.

There is good cause under 5 U.S.C. 553(d)(3) to waive the 30-day delay in effective date, as a delay in effectiveness of these actions would allow fishing at levels inconsistent with the goals of the FMP and the current management measures.

Authority: 16 U.S.C. 1801 et seq.

Dated: July 8, 2021.
Jennifer M. Wallace,
Acting Director, Office of Sustainable Fisheries, National Marine Fisheries Service.

[FR Doc. 2021-15009 Filed 7-14-21; 8:45 am]

BILLING CODE 3510-22-P